DEPARTMENT OF HEALTH AND HUMAN SERVICES

Centers for Medicare & Medicaid Services

[CMS-4062-N]

Medicare and Medicaid Programs; Solicitation for Information on the Hospital CAHPS

AGENCY: Centers for Medicare & Medicaid Services (CMS), HHS.

ACTION: Notice.

SUMMARY: This notice seeks input and recommendations regarding an initiative that the Department of Health and Human Services (DHHS) plans to use to create a standard instrument, sampling, and data collection protocol that hospitals can use to collect comparable data for use in publicly reporting hospital patients' perspectives on the care they received. This survey is being developed and tested by the Agency for Healthcare Research and Quality (AHRQ) in conjunction with the CAHPS ® (formerly known as the Consumer Assessment of Health Plans Survey). The initiative is being called “Hospital CAHPS” or “HCAHPS.” In this notice, we are soliciting public input on the draft HCAHPS survey instrument and recommendations for the survey administration.

DATES: We will consider comments on the draft HCAPHS survey instrument and recommendations for the survey administration if we receive them at the appropriate address, as provided below, no later than 5 p.m. on July 28, 2003.

ADDRESSES: Comments should be mailed to the following address: Department of Health and Human Services, Centers for Medicare & Medicaid Services, Attention: Elizabeth Goldstein, Director for the Division of Beneficiary Analysis, Mail Stop: S1-13-05, 7500 Security Boulevard, Baltimore, Maryland 21244-1850. E-mail comments should be sent to the following address: egoldstein@cms.hhs.gov.

General Information: Comments may be in the form of a letter or e-mail. Please refer to file code CMS-4062-N when submitting comments and include name, title, organization, mailing address, telephone number, fax number, and e-mail address.

Because of staffing and resource limitations, we cannot accept comments by facsimile (FAX) transmissions. Comments postmarked after the closing date, or postmarked on or before the closing date but not received in time for the review, will be considered late comments.

FOR FURTHER INFORMATION CONTACT: Elizabeth Goldstein, (410) 786-6665 or by e-mail at egoldstein@cms.hhs.gov.

SUPPLEMENTARY INFORMATION:

I. Background

A key priority for the Secretary of HHS and our Administrator is hospital public reporting. Therefore, we are currently working with the AHRQ to develop the HCAHPS standard instrument and data collection protocol to collect comparable data to support public reporting of hospital patients' perspectives on inpatient hospital care they received.

AHRQ has initiated a rigorous process to develop a draft of the HCAHPS survey instrument. On July 24, 2002, AHRQ published a “Notice of Request for Measures” in the Federal Register (67 FR 48477) soliciting the submission of existing instruments measuring patients' perspectives on care. In addition, AHRQ conducted an exhaustive review of existing literature, conducted cognitive testing with sample survey respondents, and obtained stakeholder input on the process of developing the draft HCAPHS survey instrument.

On February 5, 2003, we published a collection of information requirement notice in the Federal Register(68 FR 5889), soliciting input on a draft HCAHPS survey instrument. In this notice, we are soliciting input on the same draft HCAHPS survey instrument that was published on February 5, 2003, in the Federal Register and are providing a 30 day comment period to allow interested parties another opportunity to comment on the draft HCAHPS survey instrument. We will consider both sets of comments when revising the HCAHPS survey instrument.

In addition, we are currently testing the same draft HCAHPS survey instrument as part of CMS's 3-State hospital pilot project in Maryland, New York, and Arizona. (See our Web site at http://www.cms.hhs.gov/quality/hospital for more information on the 3-State hospital pilot project and the draft HCAHPS survey instrument).

Through the 3-State hospital pilot we will also assess the draft HCAHPS survey instrument. Results will be used to examine the reliability and validity of the draft HCAHPS items, and identify the items that are most useful for public reporting. Based on the results of the 3-State hospital pilot and public input received regarding the draft items, AHRQ will revise the HCAHPS survey instrument. We anticipate that the revised HCAHPS survey instrument would be significantly shorter than the current version.

At the end of the 3-State hospital pilot process and revisions pursuant to public comments, DHHS should have a standard, well-tested instrument for measuring patients' perspectives on hospital care that can be used for comparative public reporting. The 3-State hospital pilot and draft HCAHPS survey instrument is currently designed for all hospital patients 18 years old and over, excluding psychiatric patients. We expect that the final HCAHPS survey instrument would be put in the public domain for use by hospitals or other interested parties.

HCAHPS can be seen as a core set of questions to which individual hospitals can add their own specific questions. HCAHPS is designed to produce data for comparative public reporting to support consumer choice. The HCAHPS survey instrument will complement, not replace data currently collected that support improvement in internal hospital customer services and related activities.

It is our intent to create a process for data collection that can generate data useful for comparative public reporting and that can be used in conjunction with existing survey processes used for quality improvement. We are reviewing options that would allow us to meet our public reporting goals while allowing flexibility in survey administration. As we consider various options, we expect, at a minimum, to be able to accommodate administration by mail or telephone.

II. Provisions of this Notice

A. Purpose

The purpose of this notice is to solicit comments and recommendations on the draft HCAHPS survey instrument and implementation options.

B. Solicitation Regarding HCAHPS

As previously mentioned, the draft HCAHPS survey instrument was published for public comment on February 5, 2003, in the Federal Register and is currently being tested as part of CMS's 3-State hospital pilot project in Maryland, New York, and Arizona. In this notice, we are soliciting input on the same draft HCAHPS survey instrument and are providing a 30 day comment period to allow interested parties another opportunity to submit comments to be used in revising the HCAHPS survey instrument. We are also soliciting input on the number of questions that should be in the revised HCAHPS survey instrument. (See addendum).

C. Input on Implementation Options

We are soliciting input and recommendations for the survey administration, including sampling and data collection methods. We request that those providing comments discuss any survey biases that may be present in the approach they suggest (for example, differential mode effects) and how such biases might be addressed to allow fair and meaningful comparisons between hospitals. Some of the specific areas that we are interested in receiving input on are discussed below. In addition to the areas specified below, we are also seeking input on any issues that would affect the implementation of HCAHPS. For example, we are interested in any best practices in case-mix adjustments to control for differences in hospital patient populations.

1. Mode of Administration

Currently, there is wide variation in administration protocols including: (1) Mail, telephone, and other modes (such as interactive voice recognition); (2) number of follow-up surveys sent or telephone calls made; (3) Computer Assisted Telephone Interviewing (CATI) scripts; (4) refusal conversion protocols; (5) pre-notification and cover letter language; and (6) quality control procedures.

We are soliciting input regarding best practices in mail, telephone, or other modes of administration. We would appreciate comments regarding how we can provide flexibility in survey administration, but at the same time ensure objective comparisons between hospitals. We would also appreciate suggestions regarding ways to adjust for any biases that may be present in the approaches suggested.

2. Frequency of Data Collection

There is currently variation in terms of how often hospitals survey their patients. Some hospitals continuously survey their patients, while others do it periodically. As part of our data collection options for hospitals, we would like to ensure that we accurately reflect the mix of patients served by a hospital, capture sufficient samples, and provide the least disruption to current survey operations. Therefore, we are soliciting input on whether data collection should be ongoing or provided at a specific time (for example, at one point of time in a given year) and the pros and cons of the approach suggested.

3. Sampling

Currently, there are differences across hospitals in terms of how the sampling frame is developed and who is included in the sample. Therefore, we are soliciting input regarding what issues need to be considered as a sampling design is developed and the appropriate exclusions from the sample. We are soliciting this input to develop a sampling approach that would allow for a meaningful comparison across hospitals.

4. Time After Discharge

Survey vendors and hospitals currently differ on how quickly patients are surveyed following discharge. We are soliciting input regarding how quickly discharge lists are available; how soon after discharge is it feasible to survey patients; and what is the quality of data contained on the discharge lists.

For the national implementation of HCAHPS, there will be distinct roles for hospitals, survey vendors, and the government. Hospitals and vendors will be responsible for data collection, including: (1) Developing a sampling frame of relevant discharges; (2) drawing the sample of discharges to be surveyed; (3) collecting survey data from sampled discharges; and (4) submitting HCAHPS data to CMS in a standard format. We anticipate that there will be multiple survey vendors, including current survey vendors, who would be able to administer HCAHPS. As will be discussed in a separate document, hospitals will not be required to use a vendor for administration of HCAHPS. However, we anticipate hospitals that choose to administer HCAHPS without the use of a vendor to be able to follow all HCAHPS standards and specifications related to administration of the HCAHPS survey instrument. We will make the HCAHPS survey instrument freely available in the public domain.

The government will be responsible for support of the HCAHPS initiative and public reporting. The government responsibility would include: (1) Providing technical assistance; (2) ensuring the integrity of data collection; (3) accumulating HCAHPS data from individual hospitals; (4) producing risk-adjusted hospital-level estimates; (5) conducting research on the presentation of data for public reporting; and (6) reporting publicly the comparative hospital data.

D. Submission Process

We note, that we will not respond individually to all comments, but will consider all suggestions submitted. To facilitate handling of submissions, the commenter must submit the following information; (1) Name; (2) title; (3) organization; (4) mail address; (5) telephone number; (6) fax number; and (7) e-mail address.

For each of the implementation issues described above or any other issues related to survey implementation, we request that the commenter provide in their response any comments and evidence regarding the effectiveness of the proposed implementation approach.

E. Evaluation Process

Based on the comments and input we receive on the 3-State hospital pilot, the draft HCAHPS survey instrument, and the implementation options, we will develop a draft survey administration strategy. Our intent is that the strategy will support our public reporting goals and allow some level of flexibility in survey administration. All final HCAHPS materials will be put in the public domain for use by hospitals nationally.

Authority: Section 1138 of the Social Security Act (42 U.S.C. 1320b-8).

(Catalog of Federal Domestic Assistance Program No. 93.773, Medicare-Hospital Insurance; Program No. 93.774, Medicare-Supplementary Medical Insurance, and Program No. 93.778, Medical Assistance Program)
Dated: June 17, 2003.
Thomas A. Scully,
Administrator, Centers for Medicare & Medicaid Services.

BILLING CODE 4120-01-P

[FR Doc. 03-16057 Filed 6-26-03; 8:45 am]

BILLING CODE 4120-01-C